DEPARTMENT OF HOMELAND SECURITY

Coast Guard

33 CFR Part 117

[Docket No. USCG-2025-0999]

RIN 1625-AA09

Drawbridge Operation Regulation; Passaic River, Between the City of Newark and Town of Kearny, NJ

AGENCY: Coast Guard, DHS.

ACTION: Notice of proposed rulemaking.

SUMMARY: The Coast Guard proposes to modify the operating regulation that governs the Point No Point Railroad Bridge across the Passaic River, mile 2.6, between the City of Newark and Town of Kearny, NJ. The proposed change in the regulation will allow the bridge to be remotely operated from the Conrail North Jersey Dispatch Center in Mount Laurel, NJ. This proposed change will alter the operating schedule of the bridge to open on signal and no longer require a four-hour advance notice. We invite your comments on this proposed rulemaking.

DATES: Comments and related material must be received by the Coast Guard on or before December 31, 2025.

ADDRESSES: You may submit comments identified by docket number USCG-2025-0999 at https://www.regulations.gov.

See the “Public Participation and Request for Comments” portion of the SUPPLEMENTARY INFORMATION section below for instructions on submitting comments. This notice of proposed rulemaking with its plain-language, 100-word-or-less proposed rule summary will be available in this same docket.

FOR FURTHER INFORMATION CONTACT: If you have questions on this proposed rule, call or email Mr. Gregory P. Hitchen, Northeast Coast Guard District (dpb), the Coast Guard; telephone 571-607-8154, email Gregory.P.Hitchen@uscg.mil.

SUPPLEMENTARY INFORMATION:

I. Table of Abbreviations

CFR Code of Federal Regulations

DHS Department of Homeland Security

FR Federal Register

OMB Office of Management and Budget

NPRM Notice of Proposed Rulemaking (Advance, Supplemental)

§ Section

U.S.C. United States Code

II. Background, Purpose and Legal Basis

The Point No Point Railroad Bridge across the Passaic River, between the City of Newark and Town of Kearny, NJ, mile 2.6, owned and operated by Conrail, has a vertical clearance of 20 feet above mean high water when closed and is unlimited when open.

This proposed regulation will allow the bridge to be remotely operated from the Conrail North Jersey Dispatch Center in Mount Laurel, NJ. The current operating schedule is published in 33 CFR 117.739(c). With the implementation of remote operation of the bridge, the operating schedule will change to allow the bridge to open on signal versus requiring a four-hour advance notice. There are 30 daily train transits that cross the bridge and an average of one bridge opening every six months for vessel transits. The bridge is normally maintained in the closed position due to the average daily number of trains crossing the bridge. The Passaic River has limited commercial and recreational vessel traffic. Most commercial traffic supports marine construction projects in the waterway.

The Coast Guard is proposing to allow remote operations to improve the efficiency of bridge openings. Currently the Conrail train dispatcher in Mount Laurel NJ must dispatch bridge operating personnel to open the Point No Point Railroad Bridge. Remote operations will allow the Conrail train dispatcher to open the bridge on signal.

The legal basis for this rulemaking is 33 U.S.C. 499.

III. Discussion of Proposed Rule

This proposed operating regulation will allow the Point No Point Railroad Bridge to be operated remotely from the Conrail North Jersey Dispatch Center in Mount Laurel, NJ. The remote operations system includes eight camera views (four marine and four rail), marine radar, sonar, automated integration system (AIS) sensors, integration software, a dedicated phone line for bridge operations, and radiotelephone communications on VHF-FM channels 13 and 16.

The remote operation system is designed to provide equal or greater capabilities compared to the on-site bridge tender, in visibility of the waterway and bridge, and in signals (communications) via sound and visual signals and radio telephone (voice) via VHF-FM channels 13 and 16. The remote operation system also incorporates a dedicated telephone line for bridge operations and push-to-talk (PTT) capability on VHF-FM channels 13. Vessels that require an opening shall continue to request an opening via the methods (sound or visual signals or radio telephone (VHF-FM) voice communications) as defined in 33 CFR 117.15(b) through (d), via telephone at (856) 231-2301, or push-to-talk (PTT) on VHF-FM channel 13. Vessels may push the PTT button five times while on VHF-FM channel 13 and the North Jersey Dispatch Center will receive and respond to the request and commence opening of the bridge.

The remote operation system will be considered failed and qualified personnel will return and operate the Point No Point Railroad Bridge within 60 minutes if any of the following conditions are found: (1) The remote operation system becomes incapable of safely and effectively operating the bridge from the remote operation center, (2) visibility of the waterway or bridge is degraded to less than equal that of an on-site bridge tender (all eight camera views are required), or (3) signals (communications) via sound or visual signals or radio telephone (voice) via VHF-FM channels 13 or 16 become inoperative.

IV. Regulatory Analyses

We developed this proposed rule after considering numerous statutes and Executive Orders related to rulemaking. Below we summarize our analyses based on these statutes and Executive Orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities for the following reasons. (1) vessels will be able to obtain bridge openings on signal versus a four-hour advance notice, (2) the remote operation system is designed to provide equal or greater capabilities compared to the on-site bridge tender, and (3) the bridge owner will be capable of restoring on-site operation of the bridge within 60 minutes if the remote operation system fails.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please contact the person listed in the FOR FURTHER INFORMATION CONTACT section. The Coast Guard will not retaliate against small entities that question or complain about this proposed rule or any policy or action of the Coast Guard.

B. Collection of Information

This proposed rule would call for no new collection of information under the Paperwork Reduction Act of 1995 (44 U.S.C. 3501-3520.).

C. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such an expenditure, we do discuss the effects of this proposed rule elsewhere in this preamble.

E. Environment

We have analyzed this rule under Department of Homeland Security Management Directive 023-01, Rev.1, associated implementing instructions, and Environmental Planning Policy COMDTINST 5090.1 (series), which guide the Coast Guard in complying with the National Environmental Policy Act of 1969 (NEPA) (42 U.S.C. 4321-4370f). The Coast Guard has determined that this action is one of a category of actions that do not individually or cumulatively have a significant effect on the human environment. This proposed rule promulgates the operating regulations or procedures for drawbridges. Normally such actions are categorically excluded from further review, under paragraph L49, of Appendix A, Table 1 of DHS Instruction Manual 023-01-001-01, Rev. 1.

Neither a Record of Environmental Consideration nor a Memorandum for the Record are required for this rule. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments at https://www.regulations.gov. To do so, go to https://www.regulations.gov, type USCG-2025-0999 in the search box and click “Search.” Next, look for this document in the Search Results column, and click on it. Then click on the Comment option. If your material cannot be submitted using https://www.regulations.gov, contact the person in the FOR FURTHER INFORMATION CONTACT section of this document for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you go to the online docket and sign up for email alerts through the “Subscribe” option, you will be notified when comments/updates are posted, or a final rule is published.

Personal information. We accept anonymous comments. Comments we post to https://www.regulations.gov will include any personal information you have provided. For more about privacy and submissions in response to this document, see DHS's eRulemaking System of Records notice (85 FR 14226, March 11, 2020).

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1; and DHS Delegation No. 00170.1. Revision No. 01.3

2. Revise § 117.739(c) to read as follows

§ 117.739 Passaic River.

* * * * *

(c) The draw of CONRAIL's Point-No-Point Railroad Bridge, mile 2.6, between the City of Newark and the Town of Kearny, NJ, shall be operated from a remote location at all times, except when it is tended locally. The bridge shall open on signal once notice is given. After the signal to open is given, the opening may be delayed no more than ten minutes.

(1) Closed circuit television cameras shall be operated and maintained at the bridge site to enable the remotely located bridge tender to have a full view of both vessel traffic and the bridge.

(2) Radiotelephone Channel 13/16 VHF-FM shall be maintained and utilized to facilitate communication in both remote and local control locations. A push-to-talk (PTT) will be maintained on VHF-FM channel 13. Vessels may push the PTT button five times while on VHF-FM channel 13 and the remotely located bridge tender will receive and respond to the request and commence opening of the bridge.

(3) The bridge shall also be equipped with directional microphones and horns to receive and deliver signals to vessels.

(4) A telephone number will be maintained and posted for mariners to directly contact the remotely located bridge tender.

* * * * *

M.E. Platt,
Rear Admiral, U.S. Coast Guard, Commander, Northeast Guard District.

[FR Doc. 2025-21670 Filed 11-28-25; 8:45 am]

BILLING CODE 9110-04-P